DEPARTMENT OF THE INTERIOR

Bureau of Land Management

[OR-130-1020-PH; GP5-0170]

Notice of Public Meeting, Eastern Washington Resource Advisory Council Meeting

AGENCY: Bureau of Land Management, U.S. Department of the Interior.

ACTION: Notice of public meeting.

SUMMARY: In accordance with the Federal Land Policy and Management Act and the Federal Advisory Committee Act of 1972, the U.S. Department of the Interior, Bureau of Land Management Eastern Washington Resource Advisory Council will meet as indicated below.

DATES: The Eastern Washington Resource Advisory Council will meet for a field trip on August 5, 2005, starting from the Spokane District Office, Bureau of Land Management, 1103 North Fancher Road, Spokane, WA 99212-1275.

SUPPLEMENTARY INFORMATION: The RAC meeting will convene at the Spokane District Office, with a 30-minute public input time scheduled to commence at 8 a.m., contingent on public in attendance at that time. Following any public input, the RAC will address agenda items, to include Spokane District Program Priorities. The remainder of the meeting will be a field tour to public lands in the Packer Creek wetland restoration area in Whitman County. The RAC members will depart from the Spokane BLM office about 9:30 and return about 5 p.m. Information to be distributed to Council members for their review should be submitted, in writing, to the Spokane district office prior to July 29, 2005.

FOR FURTHER INFORMATION CONTACT: Sandra Gourdin or Kathy Helm, Bureau of Land Management, Spokane District Office, 1103 N. Fancher Road, Spokane, Washington 99212, or call (509) 536-1200.

Dated July 12, 2005.
A. Barron Bail,
Acting District Manager.

[FR Doc. 05-14039 Filed 7-15-05; 8:45 am]

BILLING CODE 4310-33-P